ENVIRONMENTAL PROTECTION AGENCY

[ER-FRL-8583-6]

Environmental Impact Statements and Regulations; Availability of EPA Comments

Availability of EPA comments prepared pursuant to the Environmental Review Process (ERP), under section 309 of the Clean Air Act and section 102(2) (c) of the National Environmental Policy Act as amended. Requests for copies of EPA comments can be directed to the Office of Federal Activities at 202-564-7167. An explanation of the ratings assigned to draft environmental impact statements (EISs) was published in FR dated April 11, 2008 (73 FR 19833).

Draft EISs

EIS No. 20080077, ERP No. D-COE-K36149-CA, San Diego Creek Watershed Special Area Management Plan/Watershed Streambed Alteration Agreement Process (SAMP/WSAA Process), Protecting and Enhancing Aquatic Resource and Permitting Reasonable Economic Development, Orange County, CA.

Summary: EPA continues to have environmental concerns about impacts to resources and requested additional information on the reasonableness of the alternatives, and why specific Nationwide Permits are proposed for revocation while others would be retained. Rating EC2.

EIS No. 20080135, ERP No. D-COE-E39072-TN, PROGRAMMATIC—Hydropower Rehabilitations, Dissolved Oxygen and Minimum Flow Regimes at Wolf Creek Dam, Kentucky and Center Hill and Dale Hollow Dams, Tennessee, Implementation.

Summary: EPA expressed environmental concerns about water quality and stream flow impacts, and recommends the identification of the improvement program and schedule, monitoring protocols, and adaptive management decision-making process in the Final EIS. Rating EC2.

EIS No. 20080156, ERP No. D-NRC-E06026-GA, GENERIC—License Renewal of Nuclear Plants, Supplement 34 to NUREG-1437, Regarding Vogtle Electric Generating Plant Units 1 and 2 (VEGP) near Waynesboro, GA.

Summary: EPA expressed environmental concerns about tritium and requested additional information on actions to mitigate or lessen the release of tritium to the Savannah River. Surface water withdrawal impacts and impacts to aquatic species during drought conditions are also a concern. Rating EC1.

EIS No. 20080159, ERP No. DA-NOA-A91061-00, Atlantic Mackerel, Squid and Butterfish, Fishery Management Plan, Amendment No. 10, Develop a Rebuilding Program that Allows the Butterfish Stock to Rebuild in the Shortest Amount of Time Possible, Exclusive Economic Zone (EEZ) off the U.S. Atlantic Coast.

Summary: EPA has no objection to the proposed action. Rating LO.

EIS No. 20080180, ERP No. DC-FTA-L40205-00, South Corridor Portland-Milwaukie Light Rail Project, Proposal to Develop Light Rail Transit in Final Segment, Connecting Downtown Portland, OR, the City of Milwaukie and north Clackamas and Multnomah Counties, OR and Clark County, WA.

Summary: EPA expressed environmental concerns about water quality impacts within waterbodies that are 303(d) listed for temperature, mercury, bacteria, and other criteria. The project has the potential to disturb contaminated sites and to release hazardous substances. Rating EC2.

EIS No. 20080185, ERP No. DS-FSA-A65173-00, PROGRAMMATIC—Expansion of the Emergency Conservation Program, To Restore Farmland (Cropland, Hayland and Pastureland) to a Normal Productive State after a Natural Disaster.

Summary: EPA has no objections to the proposed action. Rating LO.

Final EISs

EIS No. 20080017, ERP No. F-COE-K39098-CA, San Clemente Dam Seismic Safety Project, Increase Dam Safety to Meet Current Design Standards, Monterey County, CA.

Summary: EPA continues to have environmental concerns about habitat impacts and steelhead recovery following dam removal. EPA supported the two dam removal alternatives and noted continuing concerns with all other alternatives.

EIS No. 20080141, ERP No. F-TVA-E08022-TN, Rutherford-Williamson-Davidson Power Supply Improvement Project, Proposes to Construct and Operate a New 500-kilovolt (kV) Rutherford Substation, a New 27-mile 500-kV Transmission Line and Two New 9- and 15 mile 161-kV Transmission Lines, Rutherford, Williamson, and Maury Counties, TN.

Summary: EPA continues to have environmental concerns about impaired waterbody and forested wetland impacts.

EIS No. 20080183, ERP No. F-FHW-F40429-00, US-131 Improvement Study, from the Indiana Toll Road (1-80/90) to a Point One Mile North of Cowling Road, U.S. Army COE Section 404 Permit, St. Joseph County, MI and Elkhart County, IN.

Summary: While EPA has no objection to the proposed action, EPA recommended that the ROD discuss monitoring wetland hydrology and coordinate seasonal restrictions on activities in the St. Joseph River riparian corridor.

EIS No. 20080196, ERP No. F-NRC-H06006-KS, GENERIC—License Renewal of Nuclear Plants Regarding Wolf Creek Generating Station, (WCGS) Unit 1. Supplement 32 to NUREG 1437, Implementation, Coffey Country, KS.

Summary: While EPA has no objections to the proposed action, EPA recommends close coordination with the U.S. Army Corps of Engineers regarding the viability of John Redmond reservoir to supply future make-up water needs.

EIS No. 20080208, ERP No. F-NRC-G09805-OK, Sequoyah Fuels Corporation Site, Proposed Reclamation Activities for the 243-hectare (600 acre) Site, (NUREG-1888) in Gore, OK.

Summary: No formal comment letter was sent to the preparing agency.

EIS No. 20080212, ERP No. F-BIA-L60108-WA, Cowlitz Indian Tribe Trust Acquisition and Casino Project, Take 151.87 Acres into Federal Trust and Issuing of Reservation Proclamation, and Approving the Gaming Development and Management Contract, Clack County, WA.

Summary: EPA's previous issues have been resolved; therefore, EPA has no objection to the proposed action.

EIS No. 20080216, ERP No. F-BPA-J08028-MT, Libby (FP-1) to Troy Section of BPA's Libby to Bonner Ferry 115-kilovolt Transmission Line Project, Rebuilding Transmission Line between Libby and Troy, Lincoln County, MT.

Summary: EPA expressed environmental concerns about water quality and ground disturbance impacts.

Dated: July 8, 2008.
Ken Mittelholtz,
Environmental Protection Specialist, Office of Federal Activities.

[FR Doc. E8-15842 Filed 7-10-08; 8:45 am]

BILLING CODE 6560-50-P